DEPARTMENT OF THE INTERIOR

Fish and Wildlife Service

50 CFR Part 402

[FWS-R9-ES-2008-0093]

RIN 1018-AT50

DEPARTMENT OF COMMERE

National Marine Fisheries Service

50 CFR Part 402

[0808011023-81048-01]

RIN 0618-AX15

Interagency Cooperation Under the Endangered Species Act

AGENCIES: U.S. Fish and Wildlife Service, Interior; National Marine Fisheries Service, Commerce.

ACTION: Proposed rule; availability of Draft Environmental Assessment on proposed rule revising regulations implementing section 7 of the Endangered Species Act (ESA).

SUMMARY: The United States Fish and Wildlife Service (FWS) and the National Marine Fisheries Service (NMFS) (collectively, “Services” or “we”) previously proposed to amend regulations governing interagency cooperation under the Endangered Species Act of 1973 (Act) (73 FR 47868-47875; August 15, 2008).

The Services proposed these regulatory changes to improve the effectiveness and efficiency of the section 7(a)(2) consultation process. This Federal Register notice advises the public that we (FWS and NOAA) have prepared a Draft Environmental Assessment (Draft EA) under the National Environmental Policy Act (NEPA) that assesses the potential environmental effects of the proposed regulatory changes currently under consideration. The Draft EA is available for public review at the following Web site: http://www.doi.gov/issues/esa.html.

DATES: To ensure consideration, we must receive written comments by November 6, 2008.

ADDRESSES: Comments may be submitted in two ways: (1) Through the Federal eRulemaking Portal at http://www.regulations.gov. Follow the instructions on the Web site for submitting comments; or (2) by U.S. mail or hand-delivery to Public Comment Processing, Attention: 1018-AT50, Division of Policy and Directives Management, U.S. Fish and Wildlife Service, 4401 North Fairfax Drive, Suite 222, Arlington, VA 22203. We will not accept e-mail or faxes.

Our practice is to make comments, including names and home addresses of respondents, available for public review. Individual respondents may request that we withhold their home address from public disclosure, which we will honor to the extent allowable by law. If you wish us to withhold your name and/or address, you must state this prominently at the beginning of your comment. We will make all submissions from organizations or businesses, and from individuals identifying themselves as representatives or officials of organizations or businesses, available for public disclosure in their entirety.

FOR FURTHER INFORMATION CONTACT: Office of the Assistant Secretary for Fish and Wildlife and Parks, 1849 C Street, NW., Washington, DC 20240, telephone: 202-208-4416; or James H. Lecky, Director, Office of Protected Resources, National Marine Fisheries Service, 1315 East-West Highway, Silver Spring, MD 20910; telephone: 301-713-2332.

SUPPLEMENTARY INFORMATION: The Endangered Species Act of 1973, as amended (“Act”; 16 U.S.C. 1531 et seq.) provides that the Secretaries of the Interior and Commerce (the “Secretaries”) share responsibilities for implementing most of the provisions of the Act. Generally, marine species are under the jurisdiction of the Secretary of Commerce and all other species are under the jurisdiction of the Secretary of the Interior. With respect to agency consultation pursuant to Section 7 of the Act, authority to administer the Act has been delegated by the Secretary of the Interior to the Director of the FWS and by the Secretary of Commerce through the Administrator of the National Oceanic and Atmospheric Administration to the Assistant Administrator for NMFS.

On May 15, 2008, Secretary Kempthorne announced that he would propose common sense modifications to the existing regulations that implement this section of the ESA in order to provide greater clarity and certainty to the inter-agency consultation process. In the Federal Register notice proposing the regulatory modifications analyzed in this EA, the Services noted the importance of refining the ESA section 7(a)(2) consultation process to better set forth certain regulatory definitions and the applicability of this important interagency process.

While neither NEPA nor its implementing regulations require that EAs be made available for public comment, the Services' have concluded that it is appropriate in this instance to provide an opportunity for public review and comment on the draft EA, as set forth above.

Dated: October 23, 2008.
David M. Verhey,
Acting Assistant Secretary, Fish and Wildlife and Parks, Department of the Interior.
Samuel D. Rauch,
Deputy Assistant Administrator for Regulatory Programs, National Marine Fisheries Service, National Oceanic and Atmospheric Administration.

[FR Doc. E8-25678 Filed 10-23-08; 4:15 pm]

BILLING CODE 4310-55-P